DEPARTMENT OF JUSTICE

Notice of Proposed Second Agreement Regarding Alleged Non-Compliance with Consent Decree in United States v. Cummins Engine Company, Inc.

Notice is hereby given of a proposed Second Agreement Regarding Alleged Non-Compliance with Consent Decree (“Agreement”) in the case of United States v. Cummins Engine Company, Inc., Civil Action No. 98_02546, in the United States District Court for the District of Columbia.

The Agreement resolves matters involving Cummins' alleged failure to comply with a 1999 Consent Decrees settling claims under Title II of the Clean Air Act, 42 U.S.C. 7521 et seq. (the “Act”), regarding the alleged use of illegal emission-control “defeat devices” on Cummins' 1998 and prior heavy-duty diesel engines (“HDDEs”). The United States contends that Cummins violated several provisions of the Consent Decree's Section IX (Additional Injunctive Relief/Offset Projects). Specifically, the United States contends that Cummins: Used in its Averaging, Banking and Trading (“AB&T”) program credits from 192 model year 2003 and 130 model year 2004 compressed natural gas engines that were subsidized as part of a Consent Decree Offset Project, leading to the improper generation of 243.5 megagrams (Mg) of NoX + NMHC and 13.9 Mg of PM urban bus credits; and failed to timely complete work on, or to timely submit an adequate completion report for, several work plans for offset projects approved by EPA under the Consent Decree.

The Agreement provides that these violations will be resolved by Cummins' retiring of all the credits improperly generated plus a premium and Cummins' payment of a pe3nalty of $2,170,000 to the United States.

The Department of Justice will receive for a period of thirty (30) days from the date of this publication comments relating to the Agreement. Comments should be addressed to the Assistant Attorney General, Environment and Natural Resources Division, P.O. Box 7611, U.S. Department of Justice, Washington, DC 20044-7611, and should refer to United States v. Cummins Engine Company, Inc., D.J. Ref. 90-5-2-1-2136A, Second Agreement.

During the public comment period, the Agreement may be examined on the following Department of Justice Web site, http://www.uddoj.gov/enrd/Consent_Decrees.html. A copy of the Agreement may also be obtained by mail from the Consent Decree Library, P.O. Box 7611, U.S. Department of Justice, Washington, DC 20044-7611 of by faxing or e-mailing a request to Tonia Fleetwood (tonia.fleetwood@usdoj.gov), fax no. (202) 514-0097, phone confirmation number (202) 514-1547. In requesting a copy of the Decree from the Consent Decree Library, please enclose a check in the amount of $2.75 (25 cents per page reproduction cost for 11 pages) payable to the U.S. Treasury.

Karen Dworkin,
Assistant Chief, Environmental Enforcement Section.

[FR Doc. 06-9165 Filed 11-9-06; 8:45 am]

BILLING CODE 4410-15-M